DEPARTMENT OF COMMERCE

International Trade Administration

[C-489-825]

Heavy Walled Rectangular Welded Carbon Steel Pipes and Tubes From the Republic of Turkey: Final Results and Partial Rescission of Countervailing Duty Administrative Review; 2018

AGENCY: Enforcement and Compliance, International Trade Administration, Department of Commerce.

SUMMARY: The Department of Commerce (Commerce) determines that Ozdemir Boru Profil San. Ve Tic. Ltd. Sti. (Ozdemir), exporter/producer of heavy walled rectangular welded carbon steel pipes and tubes (HWR pipes and tubes) from the Republic of Turkey (Turkey), received de minimis net countervailable subsidies during the period of review, January 1, 2018, through December 31, 2018. Commerce is also rescinding this review with regard to eight companies for which timely requests for withdrawal of the request for review were filed by Independence Tube Corporation and Southland Tube, both Nucor Pipe Mills companies (collectively, the petitioners).

DATES: Applicable April 14, 2021.

FOR FURTHER INFORMATION CONTACT: Jaron Moore or Janae Martin, AD/CVD Operations, Office VIII, Enforcement and Compliance, International Trade Administration, U.S. Department of Commerce, 1401 Constitution Avenue NW, Washington, DC 20230; telephone: (202) 482-3640 or (202) 482-0238, respectively.

SUPPLEMENTARY INFORMATION:

Background

On September 3, 2019, Commerce published a notice of opportunity to request an administrative review of the order on HWR pipes and tubes from Turkey for the period of January 1, 2018, through December 31, 2018.¹ On September 30, 2019, Commerce received timely requests for an administrative review from the petitioners and Ozdemir, in accordance with section 751(a) of the Tariff Act of 1930, as amended (the Act), and 19 CFR 351.213(b).² Commerce received no other requests for administrative review.

¹ See Antidumping or Countervailing Duty Order, Finding, or Suspended Investigation; Opportunity to Request Administrative Review, 84 FR 45949 (September 3, 2019).

² See Ozdemir's Letter, “Heavy Walled Rectangular Welded Carbon Steel Pipes and Tubes from the Republic of Turkey: Review Request for Ozdemir Boru Profil San. Ve Tic. Ltd. Sti.,” dated September 30, 2019; see also Petitioners' Letter, “Heavy-Walled Rectangular Welded Carbon Steel Pipes and Tubes from the Republic of Turkey: Request for Administrative Review,” dated September 30, 2019.

On November 12, 2019, pursuant to these requests, and in accordance with 19 CFR 351.221(c)(1)(i), Commerce published a notice in the Federal Register initiating an administrative review of the CVD order on HWR pipes and tubes from Turkey.³ On February 10, 2020, the petitioners timely withdrew their request for an administrative review with respect to Agir Haddecilik A.S., Cag Celik Demir ve Celik Endustri A.S., Cinar Boru Profil San Ve Tic. A.S., Mescier Dis Ticaret Ltd. Sti., MTS Lojistik ve Tasimacilik Hizmetleri TIC A.C. Istanbul, Noksel Celik Boru Sanayi A, SEBA Dis Ticaret AS., and Tosyali Toyo Celik A.S.⁴ As a result, the only company for which the request for review was not withdrawn was Ozdemir.

³ See Initiation of Antidumping and Countervailing Duty Administrative Reviews, 84 FR 61011 (November 12, 2019).

⁴ See Petitioners' Letter, “Heavy Walled Rectangular Welded Carbon Steel Pipes and Tubes from Turkey: Partial Withdrawal of Request for Administrative Review,” dated February 10, 2020.

On January 27, 2021, Commerce published the Preliminary Results of the administrative review with respect to Ozdemir.⁵ Commerce gave interested parties an opportunity to comment on the Preliminary Results.⁶ No interested parties submitted comments. Commerce has conducted this review in accordance with section 751(a)(1)(A) of the Act.

⁵ See Heavy Walled Rectangular Welded Carbon Steel Pipes and Tubes from the Republic of Turkey: Preliminary Results of Countervailing Duty Administrative Review; 2018, 86 FR 7251 (January 27, 2021) (Preliminary Results), and accompanying Preliminary Decision Memorandum.

⁶ See Preliminary Results, 86 FR at 7252.

Scope of the Order

The products covered by the order are shipments of certain heavy walled rectangular welded steel pipes and tubes of rectangular (including square) cross section, having a nominal wall thickness of not less than 4 mm. The merchandise includes, but is not limited to, the American Society for Testing and Materials (ASTM) A-500, grade B specifications, or comparable domestic or foreign specifications.

Included products are those in which: (1) Iron predominates, by weight, over each of the other contained elements; (2) the carbon content is 2 percent or less, by weight; and (3) none of the elements below exceed the quantity, by weight, respectively indicated:

• 2.50 percent of manganese, or

• 3.30 percent of silicon, or

• 1.50 percent of copper, or

• 1.50 percent of aluminum, or

• 1.25 percent of chromium, or

• 0.30 percent of cobalt, or

• 0.40 percent of lead, or

• 2.0 percent of nickel, or

• 0.30 percent of tungsten, or

• 0.80 percent of molybdenum, or

• 0.10 percent of niobium (also called columbium), or

• 0.30 percent of vanadium, or

• 0.30 percent of zirconium.

The subject merchandise is currently provided for in item 7306.61.1000 of the Harmonized Tariff Schedule of the United States (HTSUS). Subject merchandise may also enter under HTSUS 7306.61.3000. While the HTSUS subheadings and ASTM specification are provided for convenience and customs purposes, the written description of the scope of this order is dispositive.

Changes Since the Preliminary Results

As no parties submitted comments on the Preliminary Results, we made no changes to the subsidy calculations for Ozdemir in the final results of this review.

Partial Rescission of Administrative Review

Pursuant to 19 CFR 351.213(d)(1), Commerce will rescind an administrative review, in whole or in part, if the party that requested a review withdraws the request within 90 days of the publication date of the notice of initiation of the requested review. The petitioners' withdrawal request was timely submitted, and no other interested party requested an administrative review of the eight companies named above. Therefore, in accordance with 19 CFR 351.213(d)(1), we are rescinding this administrative review of the CVD order on HWR pipes and tubes from Turkey, in part, with respect to the aforementioned eight companies.

Final Results of Administrative Review

In accordance with section 777A(e)(1) of the Act and 19 CFR 351.221(b)(5), we determine that the following net countervailable subsidy rate exists for Ozdemir for the period January 1, 2018, through December 31, 2018: ⁷

⁷ We have made no changes to this rate since the Preliminary Results. Therefore, no additional disclosure of calculations is necessary for these final results under 19 CFR 351.224(b).

Company | Subsidy rate (percent)
Ozdemir Boru Profil San. Ve Tic. Ltd. Sti | 0.39 (de minimis).

Assessment Rates

Commerce shall determine, and U.S. Customs and Border Protection (CBP) shall assess, countervailing duties on all appropriate entries covered by this review, pursuant to section 751(a)(2)(C) of the Act and 19 CFR 351.212(b).⁸ Because we calculated a de minimis countervailable subsidy rate for Ozdemir in the final results of this review, we intend to instruct CBP to liquidate the appropriate entries without regard to countervailing duties in accordance with 19 CFR 351.212(b)(2) and 19 CFR 351.106(c)(1).

⁸ See section 751(a)(2)(C) of the Act; see also 19 CFR 351.212(b).

With respect to the companies for which this administrative review is rescinded (i.e., Agir Haddecilik A.S., Cag Celik Demir ve Celik Endustri A.S., Cinar Boru Profil San Ve Tic. A.S., Mescier Dis Ticaret Ltd. Sti., MTS Lojistik ve Tasimacilik Hizmetleri TIC A.C. Istanbul, Noksel Celik Boru Sanayi A, SEBA Dis Ticaret AS., and Tosyali Toyo Celik A.S.), countervailing duties shall be assessed at rates equal to the cash deposit rate required at the time of entry, or withdrawal from warehouse, for consumption, during the period January 1, 2018, through December 31, 2018, in accordance with 19 CFR 351.212(c)(1)(i).

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirement

Pursuant to section 751(a)(1) of the Act, Commerce also intends to instruct CBP to collect cash deposits of estimated countervailing duties at the appropriate rates. For shipments of subject merchandise by Ozdemir entered, or withdrawn from warehouse, for consumption on or after the date of publication of these final results, the cash deposit rate will be zero. For all non-reviewed firms, we will instruct CBP to continue to collect cash deposits at the most-recent company-specific or all-others rate applicable to the company, as appropriate. These cash deposit requirements, when imposed, shall remain in effect until further notice.

Administrative Protective Order

This notice also serves as a final reminder to parties subject to an administrative protective order (APO) of their responsibility concerning the return or destruction of proprietary information disclosed under APO in accordance with 19 CFR 351.305(a)(3), which continues to govern business proprietary information in this segment of proceeding. Timely written notification of the return/destruction of APO materials or conversion to judicial protective order is hereby requested. Failure to comply with the regulations and terms of an APO is a violation which is subject to sanction.

Notification to Interested Parties

This notice of final results and partial rescission of administrative review are issued and published in accordance with sections 751(a)(1) and 777(i)(1) of the Act, and 19 CFR 351.221(b)(5) and 19 CFR 351.213(d)(4).

Dated: April 8, 2021.
Christian Marsh,
Acting Assistant Secretary for Enforcement and Compliance.

[FR Doc. 2021-07631 Filed 4-13-21; 8:45 am]

BILLING CODE 3510-DS-P